DEPARTMENT OF JUSTICE

Notice of Lodging of Consent Decree Pursuant to the Clean Air Act

In accordance with 28 CFR 50.7, 38 FR 19029, notice is hereby given that on October 30, 2000, a proposed consent decree in United States v. Puerto Rico Aqueduct and Sewer Authority, Civil Action No. 00-1942 (PG), was lodged with the United States District Court for the District of Puerto Rico. The United States' complaint sought injunctive relief and civil penalties under the Clean Air Act (“CAA”) against the Puerto Rico Aqueduct and Sewer Authority (“PRASA”), in regard to violations of the New Source Performance Standards for sewage treatment plants and the Puerto Rico State Implementation Plan, resulting from PRASA's operation of the multiple hearth furnace (“MHF”) sludge incineration facility at its Puerto Nuevo wastewater treatment plant located in Puerto Nuevo, Puerto Rico.

The consent decree provides that PRASA shall pay a civil penalty of $80,000 and implement a supplemental environmental project, consisting of the installation of belt filter presses at its Bayamon wastewater treatment plant, estimated to cost about $692,000. The consent decree also requires PRASA to render its MHF units inoperable and enjoins PRASA from any future operation of those units.

The Department of Justice will receive comments relating to the proposed consent decree for a period of thirty (30) days from the date of this publication. Comments should be addressed to the Assistant Attorney General, Environment and Natural Resources Division, Department of Justice, P.O. Box 7611, Washington, D.C. 20044, and should refer to United States v. Puerto Rico Aqueduct and Sewer Authority, D.J. Ref. 90-5-2-1-1874A.

The proposed consent decree may be examined at the office of the United States Attorney, Federal Office Building, Rm. 101, Carlos E. Chardon Avenue, Hato Rey, Puerto Rico 00918 and at the Region II office of the Environmental Protection Agency, 290 Broadway, New York, New York 10007. A copy of the proposed consent decree may also be obtained by mail from the Department of Justice Consent Decree Library, P.O. Box 7611, Washington, D.C. 20044. In requesting a copy, please enclose a check (there is a 25 cent per page reproduction cost) in the amount of $7.75 payable to the “Consent Decree Library.”

Bruce S. Gelber,
Chief, Environmental Enforcement Section, Environment & Natural Resources Division.

[FR Doc. 00-29295 Filed 11-15-00; 8:45 am]

BILLING CODE 4410-15-M